FEDERAL MEDIATION AND CONCILIATION SERVICE

Proposed Agency Information Collection Activities; Comment Request

AGENCY: Federal Mediation and Conciliation Service.

ACTION: Notice.

SUMMARY: As required by the Paperwork Reduction Act of 1995 (44 U.S.C. Ch. 35) (PRA), the Federal Mediation and Conciliation Service (FMCS) requests comments on a proposed request for Office of Management and Budget (OMB) to approve an FMCS online customer survey. This survey is to evaluate the impact of FMCS' relationship-development and training programs (RDTs), the impact of the training program on the relationship between labor and management, and the impact of the training on the workplace. The survey will be voluntary and will be administered online, to randomly selected private sector employers and their corresponding unions. The survey asks 10 questions about FMCS-provided RDT programs. In accordance with the Paperwork Reduction Act of 1995, 44 U.S.C. 3506(c)(2)(A), FMCS invites the public to comment on this proposed information collection. The FMCS will consider all comments received in response to this notice before requesting approval of this collection of information from the Office of Management and Budget.

DATES: Submit comments on or before July 5, 2005.

ADDRESSES: Send comments to Maria A. Fried, Attorney-Advisor, Federal Mediation and Conciliation Service, 2100 K Street, NW., Washington, DC 20427.

FOR FURTHER INFORMATION CONTACT: Maria A. Fried, Attorney-Advisor, Federal Mediation and Conciliation Service, 202-606-5444; mfried@fmcs.gov.

SUPPLEMENTARY INFORMATION: Title: Survey of Relationship-Development and Training Programs.

OMB Number: Not yet assigned.

Expiration Date: Not applicable.

Type of Request: New collection of information.

Method of Collection: Historically, the FMCS closes approximately 2400 RDT cases per fiscal year. The intent is to survey 10 percent of these closed cases over the course of the fiscal year, including company and union counterpart that received the training. Using its database, FMCS will randomly select cases closed within each quarter in order to meet the agency's desire to survey 10% of all closed cases over the fiscal year.

RDT participants with e-mail addresses will receive an e-mail with a Web link to the survey questions. RDT participants without e-mail addresses will receive a post card explaining that they have been randomly selected for a survey and provided with a link to access the survey. The survey will take no longer than 5 minutes to complete.

Survey Questions:

The survey will appear online as noted below:

FMCS Customer Survey Questions

Our records show that you recently used FMCS training services. FMCS is collecting this information to become more aware of the impact of its training services and to improve them. Participation is voluntary and responses are completely confidential. Please help us improve our training services by completing this short on-line survey. There are only 10 questions, and it should require fewer than five minutes. Your comments are important to us, and we appreciate your time and your interest in FMCS training services.

Please note that the FMCS may not conduct or sponsor, and you are not required to respond to, a collection of information unless it displays a valid OMB control number. The control number for this survey is ___.

1. Which do you represent?

a. Labor.

b. Management.

2. What was the primary factor motivating your decision to have this training program? Select the primary factor.

a. Our recent contract negotiations were contentious (or a recent strike) and we believed this training would improve our relationship and help reduce conflict.

b. We have many grievances pending and we believed this training would help us improve resolution of them.

c. We wanted to improve morale.

d. We need improved methods of communication with one another.

e. We agreed to the training because the other side wanted it.

f. An FMCS mediator recommended the training.

g. Another source recommended training.

h. We needed to learn more effective problem-solving techniques for our upcoming contract negotiations.

i. Other.

3. Did the program (select one).

a. Meet expectations.

b. Exceed expectations.

c. Fall below expectations.

4. As a result of the training program, do you believe that the parties' relationship improved? Select one.

a. Yes (if yes, go to question 5).

b. No (if no, go to question 6).

5. What were the positive outcomes of the training program, if any? Please select all that apply.

a. Number of grievances decreased.

b. Grievances were handled more efficiently.

c. Employee moral improved.

d. Communication (both quality and method) improved.

e. Productivity improved.

f. Joint problem solving techniques were implemented or improved.

g. Contract negotiations after the training was collaborative.

h. Absenteeism declined.

i. Mutual respect and understanding resulted.

j. Information is shared proactively and more frequently.

k. Support for labor-management committees increased among senior labor and management officials.

l. Other (describe).

m. No discernible change as a result of the training.

n. There were some negative results of the training (describe).

6. If you believe that the training program fell below expectations, please indicate how the program could be improved. (Please describe).

7. Have you had negotiations since the training?

a. Yes (if yes, go to question 8).

b. No (if no, go to question 9).

8. If you have had negotiations since the training, do you believe that the training had an impact on the negotiations? If so, described how.

a. Yes. (Described how).

b. No.

9. Because of the FMCS training, do you perceive that the likelihood of a job action has (i.e., lockout or strike).

a. Increased.

b. Decreased.

c. Remained the same.

10. What is the most important reason you might select FMCS for relationship-development training again? Select one.

a. Because of the positive impact it had on our labor-management relations.

b. Because it made company and employees more productive.

c. Because it helped us cope with difficult negotiations.

d. Because it taught us important skills that can be applied in other conflict situations.

e. All.

f. Other.

g. Would not use FMCS for training again.

Results: Survey results will be used to improve RDT programs, and for OMB/Congressional submissions. Results will be available upon request.

Estimated Annual Respondent Burden: It is estimated that 250 labor or management representatives will participate in the survey. See chart below for breakdown of annual costs.

Total annual hour burden (for all respondents) | Union respondents ¹ | Management respondents ² | Total costs
1250 minutes (21 hours total annually) | $18.07/hour × 21 hour = $379.47 | $42.94/hour × 21 hours = $901.74 | $1281.21
¹ The average hourly wage was derived from BLS' “Employer Costs for Employee Compensation 4th Quarter 2004,” from the hourly wage calculation across all occupations nationwide.
² The average management wage rate is derived from BLS' “General and operations managers” classification mean hourly wage estimates.

Request for Comments: In accordance with the Paperwork Reduction Act, comments on the FMCS RDT survey are requested with regard to any of the following:

(a) Whether the proposed collection of information is necessary for the proper performance of functions of the Agency, including whether the information will have practical utility;

(b) The accuracy of the Agency's estimate of the burden (including hours and costs) of the proposed collection of information;

(c) Ways to enhance the quality, utility, and clarity of the information to be collected; and,

(d) Ways to minimize the burden of the collection of information on respondents, including the use of automated collection techniques or other forms of information technology.

Comments submitted in response to this notice will be summarized and included in the request for OMB approval of the proposed information collection. All comments will become a matter of public record.

Dated: April 29, 2005.
Scot Beckenbaugh,
Acting Director.

[FR Doc. 05-8915 Filed 5-4-05; 8:45 am]

BILLING CODE 6372-01-M